DEPARTMENT OF AGRICULTURE

Foreign Agricultural Service

Agricultural Policy Advisory Committee for Trade; Renewal

AGENCY: Foreign Agricultural Service, USDA.

ACTION: Notice.

SUMMARY: Pursuant to the Federal Advisory Committee Act, notice is hereby given that the Secretary of Agriculture (Secretary), in coordination with the United States Trade Representative (USTR), has renewed the Agricultural Policy Advisory Committee for Trade (APAC).

DATES: Effective: June 9, 2011.

FOR FURTHER INFORMATION CONTACT: Inquiries or comments regarding the renewal of this committee may be sent by electronic mail to: Lorie.Fitzsimmons@fas.usda.gov and Steffon.Brown@fas.usda.gov, in the Office of Agreements and Scientific Affairs (OASA), or by fax to (202) 720-0340. OASA may be reached by telephone at (202) 720-6219, with inquiries directed to Lorie Fitzsimmons or Steffon Brown.

SUPPLEMENTARY INFORMATION:

Introduction

The APAC is authorized by sections 135(c)(1) and (2) of the Trade Act of 1974, as amended (Pub. L. 93-618, 19 U.S.C. 2155). The purpose of this committee is to advise the Secretary and the USTR concerning agricultural trade policy. The committee is intended to ensure that representative elements of the private sector have an opportunity to express their views to the U.S. Government.

Rechartering of Existing Committees

Pursuant to the Federal Advisory Committee Act (5 U.S.C. Appendix), FAS gives notice that the Secretary and the USTR have renewed the APAC.

In 1974, Congress established a private sector advisory committee system to ensure that U.S. trade policy and negotiation objectives adequately reflect U.S. commercial and economic interests. The private sector advisory committee system currently consists of the following three tiers:

• The President's Advisory Committee on Trade and Policy Negotiations;

• Five general policy advisory committees, including the APAC; and

• Twenty-two technical advisory committees, including the Agricultural Technical Advisory Committees for Trade (ATACs).

The renewal of the APAC is in the public interest in connection with USDA's performance of duties imposed on USDA by the Trade Act of 1974, as amended.

Dated: June 3, 2011.
Suzanne Heinen,
Administrator, Foreign Agricultural Service.

[FR Doc. 2011-14290 Filed 6-8-11; 8:45 am]

BILLING CODE 3410-10-P